DEPARTMENT OF TRANSPORTATION

Federal Railroad Administration

Safety Advisory 2007-04

AGENCY: Federal Railroad Administration (FRA), DOT.

ACTION: Notice of safety advisory; potential catastrophic failure of locomotive reservoir tanks.

SUMMARY: In April 2005, FRA issued Safety Advisory 2005-02 in order to provide information to interested parties on the potential catastrophic failure of locomotive main reservoir tanks manufactured by R&R Metal Fabricators, Incorporated, and installed on General Electric Transportation System (GETS) locomotives. FRA is issuing this document, Safety Advisory 2007-04, in order to provide updated information related to this issue.

FOR FURTHER INFORMATION CONTACT: George Scerbo, Railroad Safety Specialist, Motive Power and Equipment Division (RRS-14), FRA Office of Safety Assurance and Compliance, 1120 Vermont Avenue, NW., Washington, DC 20590, telephone: (202) 493-6249 or Michael Masci, Staff Attorney, FRA Office of Chief Counsel, 1120 Vermont Avenue, NW., Washington, DC 20590, telephone: (202) 493-6037.

SUPPLEMENTARY INFORMATION: In early 2005, GETS provided FRA information on the potential catastrophic failure of locomotive main reservoir tanks, manufactured by R&R Metal Fabricators, Incorporated, and installed on GETS locomotives. At that time, GETS reported that 5,826 suspect main reservoir tanks were manufactured between 1988 and 1995. Prior to the issuance of Safety Advisory 2005-02, four main reservoir tanks had failed catastrophically (ruptured) while in service. Since the issuance of Safety Advisory 2005-02, two additional reservoir tanks have failed and several others have been removed from service for various other reasons. GETS describes the ruptures as a rapid splitting and deformation of the reservoir tank along the longitudinal seam. Catastrophic failure of the main reservoir tank can result in serious injury or worse to anyone in the vicinity of the tank at the time of failure.

In 2005, GETS produced a list of approximately twenty-seven hundred (2,700) locomotives that have likely been equipped with the suspect reservoirs. GETS noted that additional suspect reservoirs may have been mounted onto GETS locomotives through maintenance and repair. No other locomotive manufacturer has produced any locomotives equipped with the suspect main reservoir tanks, and any attempt to do so would require major modifications to the mounting system. All suspect reservoir tanks can be identified by a name plate which shows R&R attached to the skin of the tank.

On September 12, 2007, GETS notified FRA that its earlier instructions to inspect and measure the reservoir tanks and replace only those that fail to meet the criteria proved to be only partially effective in identifying the at risk tanks. To minimize the possibility of any additional reservoir tank failures, GETS has advised all known owners and users of the affected locomotives equipped with the involved R&R Metal Fabricators, Incorporated reservoir tanks to replace them by September 30, 2008, or sooner. Any owner or user of these reservoir tanks should contact GETS for replacement of the reservoir tanks at no cost.

Recommended Action: In recognition of the need to assure safety, FRA recommends that railroads operating and owning GETS locomotives inspect the main reservoir tanks of such locomotives in service and any main reservoir tanks in inventory to determine if they were manufactured by R&R Metal Fabricators, Incorporated, between 1988 and 1995. If any such locomotive reservoir tanks are found, the owner or operator of the locomotive should contact Mr. Len Baran, GETS Product Manager, at General Electric Transportation Systems, 2901 East Lake Road, Building 14-410, Erie, Pennsylvania 16531, or by e-mail at Len.Baran@trans.ge.com, or by telephone at (814) 875-2769.

FRA may modify this Safety Advisory 2007-04, issue additional safety advisories, or take other appropriate action necessary to ensure the highest level of safety on the nations railroads.

Issued in Washington, DC, on December 7, 2007.
Jo Strang,
Associate Administrator for Safety.

[FR Doc. E7-24196 Filed 12-12-07; 8:45 am]

BILLING CODE 4910-06-P